DEPARTMENT OF THE INTERIOR

Bureau of Land Management

[LLIDC01000.L11500000.MO0000.241A0; 450019352]

Notice of Realty Action: Proposed Direct Sale of Public Land in Shoshone County, ID

AGENCY: Bureau of Land Management, Interior.

ACTION: Notice of Realty Action.

SUMMARY: The Bureau of Land Management (BLM) proposes to sell a 0.07-acre parcel of public land in Shoshone County, Idaho, to Sunshine Precious Metals, Inc. (Sunshine) for the appraised fair market value of $280.

DATES: Comments regarding the proposed sale must be received by the BLM on or before April 15, 2011.

ADDRESSES: Written comments concerning this proposed sale may be submitted to Field Manager, BLM Coeur d'Alene Field Office, 3815 Schreiber Way, Coeur d'Alene, Idaho 83815.

FOR FURTHER INFORMATION CONTACT: Janna Paronto, Realty Specialist, at 3815 Schreiber Way, Coeur d'Alene, Idaho 83815 or phone (208) 769-5037.

SUPPLEMENTARY INFORMATION: On February 6, 2008, a Notice of Realty Action (NORA) was published in the Federal Register announcing the proposed direct sale and segregation of 5.07 acres of public land in Shoshone County, Idaho. No public comments were received as a result of the publication of the NORA. At this time, the BLM is no longer proposing to sell the 5-acre parcel and is announcing the proposal to sell only the 0.07-acre parcel, measuring 952 feet long and averaging about 3 feet wide. This sale will be made by direct sale to Sunshine in accordance with Sections 203 and 209 of the Federal Land Policy and Management Act of 1976 (FLPMA), as amended (43 U.S.C. 1713 and 1719):

Boise Meridian

T. 48 N., R. 3 E.,

Sec. 15 lot 24.

Containing 0.07 acre, more or less.

The area described contains 0.07 acre in Shoshone County, and its appraised fair market value is $280 based on an approved BLM appraisal. A copy of the appraisal is available for review at the location identified in ADDRESSES above. The 2007 BLM Coeur d'Alene Resource Management Plan identifies this parcel of public land as suitable for disposal through direct sale to the historic land user. This parcel is not needed for any Federal purpose and is difficult and uneconomic to manage as public land. The BLM is proposing a direct sale of the 0.07-acre parcel, which is the smallest legal subdivision that can be used to describe this sliver of public land, to Sunshine. A direct sale is appropriate because Sunshine has used/occupied a building(s) located on this parcel since the 1930s. The public interest would be best served by disposing of this parcel to the user/occupant by direct sale. The disposal parcel contains no known mineral values and the conveyance would include the simultaneous conveyance of the Federal mineral interests with the sale of the land. In addition to the appraised fair market value, Sunshine would be required to pay a $50 nonrefundable filing fee for conveyance of the mineral interests. Any patent issued will be subject to all valid existing rights of record and contain the following terms, conditions, and reservations.

a. A reservation of a right-of-way to the United States for ditches and canals constructed by authority of the United States under the Act of August 30, 1890 (43 U.S.C. 945);

b. A notice and indemnification statement under the Comprehensive Environmental Response, Compensation and Liability Act (CERCLA), 42 U.S.C. 9620(h), indemnifying and holding the United States harmless from any release of hazardous materials that may have occurred. To the extent required by law, the sale will be subject to the requirements of section 120(h) of CERCLA, 42 U.S.C. 9620(h).

Detailed information concerning the proposed land sale including the appraisal, planning and environmental documents, and a mineral report are available for review at the BLM Coeur d'Alene Office at the location identified in the ADDRESSES section above. Normal business hours are 7:45 a.m. to 4:30 p.m., Monday through Friday, except Federal holidays.

Public Comments: Public comments regarding the proposed sale may be submitted in writing to the BLM Coeur d'Alene Field Manager (see ADDRESSES section) on or before April 15, 2011. Comments received in electronic form, such as e-mail or facsimile, will not be considered. Any adverse comments regarding the proposed sale will be reviewed by the BLM Idaho State Director or other authorized official of the Department of the Interior, who may sustain, vacate, or modify this realty action in whole or in part. In the absence of timely filed objections, this realty action will become the final determination of the Department of the Interior not less than 60 days from March 1, 2011.

Before including your address, phone number, e-mail address, or other personal identifying information in your comment; you should be aware that your entire comment—including your personal identifying information—may be made publicly available at any time. While you can ask us in your comment to withhold your personal identifying information from public review, we cannot guarantee that we will be able to do so.

Authorities: 43 CFR Subparts 2710, 2711 and 2720.

Kurt Pavlat,
Acting Coeur d'Alene Field Manager.

[FR Doc. 2011-4507 Filed 2-28-11; 8:45 am]

BILLING CODE 4310-GG-P